DEPARTMENT OF TRANSPORTATION

Research and Innovative Technology Administration

Agency Information Collection; Activity Under OMB Review; Omnibus Household Survey Program

AGENCY: Research & Innovative Technology Administration (RITA), Bureau of Transportation Statistics (BTS), DOT.

ACTION: Notice.

SUMMARY: In accordance with the requirements of section 3506(c)(2)(A) of the Paperwork Reduction Act of 1995, this notice announces that the Information Collection Request (ICR) described below is being forwarded to the Office of Management and Budget (OMB) for approval for an extension of a currently approved information collection related to the use of and satisfaction with the nation's transportation system. The ICR describes the nature of the information collection and its expected burden. The Federal Register notice with a 60-day comment period soliciting comments on the following collection of information was published on February 2, 2010 (75 FR 5370) and the comment period ended on April 5, 2010. The 60-day notice produced no comments.

DATES: Written comments should be submitted by May 12, 2010.

FOR FURTHER INFORMATION CONTACT: Dr. Pheny Weidman, OHS Program Manager, BTS, RITA, Department of Transportation, 1200 New Jersey Ave. SE., Room E32-318, Washington, DC 20590. Office hours are from 8:30 a.m. to 5 p.m., E.T., Monday through Friday, except Federal holidays. Telephone (202) 366-2817, Fax (202) 493-0568 or e-mail pheny.weidman@dot.gov.

SUPPLEMENTARY INFORMATION: Title: Omnibus Household Survey (OHS) Program.

Type of Request: Approval of an extension of a currently approved information collection.

OMB Control Number: 2139-0012.

Affected Public: The target population for the OHS Program is the non-institutionalized population, aged 18 and older, who live in the United States. A national probability sample of households generated using list-assisted random digit dialing (RDD) methodology will be employed by the survey. Individual survey respondents within selected households will be chosen at random.

Number of Respondents: 1,500.

Number of Responses: 1,500.

Total Annual Burden: 625 hours (Based on previous data collections, we estimate the average time to complete the survey is 25 minutes. 25 minutes × 1,500 respondents = 37,500 minutes/60 minutes = 625 hours). The estimated average time to complete the survey has increased from the 10 minutes stated for previous data collections to 25 minutes. The increase is largely due to the increase in the length of questionnaire. The survey sample size also will increase from the 1,000 respondents used by previous data collections to 1,500. The increase in sample size is due to the inclusion of questions regarding the safety of public transit. In order to ensure that there will be enough samples to produce reliable estimates for those questions, a total of 500 individuals will be oversampled from selected Metropolitan Statistical Areas that provide public transit services.

Abstract: In 2005, Congress passed, and the President signed, the Safe, Accountable, Flexible, Efficient Transportation Equity Act: A Legacy for Users (SAFETEA-LU; Pub. L. 109-59). SAFETEA-LU contained a number of legislative mandates including providing data, statistics and analyses to transportation decision-makers. The Research and Innovative Technology Administration, Bureau of Transportation Statistics (RITA/BTS) was tasked to accomplish this legislative mandate under 49 U.S.C. 111(c)(1). RITA/BTS plans to use the Omnibus Household Survey (OHS) to:

• Assess the public's evaluation of the nation's transportation system in light of the DOT's strategic goals (safety, reduced congestion, global connectivity, environmental stewardship and security, preparedness and response),

• Provide a vehicle for the operating administrations within the DOT, as well as other governmental agencies, to survey the public about current transportation issues, and

• Provide national estimates of transportation mode usage.

Each version of the OHS will focus on some subset of topics taken from the list below. Topics may vary from survey to survey since covering all topics in one questionnaire would make the respondent burden unacceptable.

Choices and frequency of mode use in the month and the week prior to the survey data collection

Commercial air

Privately owned vehicle

Taxi

Rail transit (subway, streetcar, or light rail)

Commuter rail

Transit (local) and intercity (long distance) bus

Intercity Rail (Amtrak)

Other modes such as biking and walking

Confidence in the safety of the following modes of transportation

Commercial air

Privately owned vehicle

Taxi

Rail transit (subway, streetcar, or light rail)

Commuter rail

Water transportation (taxis, ferries, ships)

Transit (local) and intercity (long distance) bus

Intercity Rail (Amtrak)

Other modes such as biking/walking/ferries

Confidence in the security procedures for the following modes of transportation

Commercial air

Charter/general aviation

Privately owned vehicle

Rail transit (subway, streetcar, or light rail)

Commuter rail

Water transportation (taxis, ferries, ships)

Transit (local) and intercity (long distance) bus

Intercity Rail (Amtrak)

Assessment of/satisfaction with security procedures for the following modes of transportation

Commercial air

Charter/general aviation

Rail transit (subway, streetcar, or light rail)

Commuter rail

Water transportation (taxis, ferries, ships)

Transit (local) and intercity (long distance) bus

Intercity Rail (Amtrak)

Processing through security at

Commercial airports

Train stations

Waterway entry points for ferries, water taxis, cruises

Knowledge of current check-in procedures at

Commercial airports

Train stations

Waterway entry points for ferries, water taxis, cruises

Knowledge of/confidence in the Alien Flight Student Program

Experiences with transit delays related to suspicious/unattended baggage

Willingness/tolerance of transportation security risk management procedures

Information on journey to work

Transportation used (single mode/multiple mode)

Time required for one-way trip

Number of days traveled

Assessment of congestion

Methods for dealing with congestion

Telecommuting information

Commuting costs

Availability of transportation subsidies

Impact of congestion on commute

Impact of on-line shopping on passenger and freight travel

Impact of accessibility of transportation on livability of communities

Assessment of/opinions regarding distracted driving behaviors

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Send comments to the Office of Information and Regulatory Affairs, Office of Management and Budget, 725 17th Street, NW., Washington, DC 20503, Attention: BTS Desk Officer.

Issued in Washington, DC, on this 5th day of April 2010.
Steven D. Dillingham,
Director, Bureau of Transportation Statistics, Research and Innovative Technology Administration.

[FR Doc. 2010-8235 Filed 4-9-10; 8:45 am]

BILLING CODE 4910-HY-P